DEPARTMENT OF THE INTERIOR

Bureau of Land Management

[AZ-930-1430-ET; AZA 6630, AZA 9224, AZA 9683, and AZA 12162]

Expiration of Withdrawals and Opening of Lands; Arizona

AGENCY: Bureau of Land Management, Interior.

ACTION: Notice.

SUMMARY: Four public land orders, which withdrew 2,051 total acres of public lands from surface entry and mining, have expired. This order opens the lands to surface entry and mining.

FOR FURTHER INFORMATION CONTACT: Cliff Yardley, BLM Arizona State Office, 222 North Central Avenue, Phoenix, Arizona 85004-2203, 602-417-9437.

SUPPLEMENTARY INFORMATION: 1. The following public land orders (PLOs), which withdrew public lands for the areas listed below, have expired:

PLO | FR citation | Area name | Expired | Acres
5756 | 45 FR 63850 (1980) | Wellton-Mohawk Irrigation District | 9/25/2000 | 1,468
5788 | 45 FR 82934 (1980) | Burro Creek Campground | 12/16/2000 | 310
5954 | 46 FR 31892 (1981) | Border Patrol, Yuma Area Station | 6/17/2001 | 20
6475 | 48 FR 45394 (1983) | Yuma Proving Grounds—Dept of Army | 10/4/2003 | 253

2. Copies of the public land orders for the expired withdrawals, showing the lands involved, are available at the BLM Arizona State Office (address above).

3. In accordance with 43 CFR 2091.6, at 10 a.m. on June 4, 2004, the lands withdrawn by the public land orders listed in Paragraph 1 above will be opened to the operation of the public land laws generally, subject to valid existing rights, the provisions of existing withdrawals, other segregations of record, and the requirements of applicable law. All valid applications received at or prior to 10 a.m. on June 4, 2004, shall be considered as simultaneously filed at that time. Those received thereafter shall be considered in the order of filing.

4. In accordance with 43 CFR 2091.6, at 10 a.m. on June 4, 2004, the lands withdrawn by the public land orders listed in Paragraph 1 above will be opened to location and entry under the United States mining laws, subject to valid existing rights, the provisions of existing withdrawals, other segregations of record, and the requirements of applicable law. Appropriation of any of the lands described in this order under the general mining laws prior to the date and time of restoration is unauthorized. Any such attempted appropriation, including attempted adverse possession under 30 U.S.C. 38 (2000), shall vest no rights against the United States. State law governs acts required to establish a location and to initiate a right of possession where not in conflict with Federal law. The Bureau of Land Management will not intervene in disputes between rival locators over possessory rights since Congress has provided for such determinations in local courts.

Dated: April 21, 2004.
Steven J. Gobat,
Acting Deputy State Director, Resources Division.

[FR Doc. 04-10130 Filed 5-4-04; 8:45 am]

BILLING CODE 4310-32-P